DEPARTMENT OF DEFENSE

Department of the Army

Intent To Prepare a Draft Environmental impact Statement (DEIS) for a Flood Damage Reduction Study, Kansas Citys, Missouri and Kansas

AGENCY: U.S. Army Corps of Engineers, Kansas City District, DoD.

ACTION: Notice of intent.

SUMMARY: the Kansas Citys, Missouri and Kansas, Local Flood Protection Project is an existing flood damage reduction project comprised of 7 existing levee units: Argentine Levee Unit; Armourdale Levee Unit; Birmingham Levee Unit; Central Industrial District (CID) Levee Unit; East Bottoms Levee Unit; Fairfax-Jersey Creek Levee Unit; and the North Kansas City Levee Unit. The purpose of this study is to consider the economic, environmental, and social impacts that may occur as a result of various alternatives being considered in a flood damage reduction study, concerning flood protection provided by the existing Kansas Citys, Missouri and Kansas, Local Flood Protection Project to determine if increases in flood protection are warranted, under the authority of Section 216 of the 1970 Flood Control Act, Kansas City, Missouri and Kansas City, Kansas.

FOR FURTHER INFORMATION CONTACT: Questions regarding the proposed study and DEIS can be answered by the Project Manager, Ronald G. Jansen, P.E., telephone number (816) 983-3258, Formulation Section, Planning Branch, U.S. Army Corps of Engineers, 700 Federal Building, 601 E. 12th Street, Kansas City, Missouri 64106-2896.

SUPPLEMENTARY INFORMATION: 1. The Kansas City District (KCD), Corps of Engineers, is undertaking a Flood Damage Reduction Study, to update and verify data on the existing level of flood protection, of the Kansas Citys, Missouri and Kansas, Local Flood Protection Project, to determine if any increases in protection are warranted, under the authority of section 216 of the 1970 Flood Control Act.

2. The Kansas Citys, Missouri and Kansas, Local Flood Protection Project is an existing flood damage reduction project which provides local flood protection for the metropolitan areas of Kansas City, Missouri and Kansas City, Kansas. The project is comprised of 7 existing levee units: Argentine Levee Unit located in Kansas City, Wyandotte County, Kansas; Armouradale Levee Unit located in Kansas City, Wyandotte County, Kansas; Birmingham Levee Unit located in Kansas City, Clay County, Missouri; Central Industrial District (CID) Levee Unit located in Kansas City, Wyandotte County, Kansas and Kansas City, Jackson County, Missouri; East Bottoms Levee Unit located in Kansas City, Jackson County, Missouri; Fairfax-Jersey Creek Levee Unit located in Kansas City, Wyandotte County, Kansas; and the North Kansas City Levee Unit located in Kansas City and North Kansas City, Clay County, Missouri. The project extends over the lower 9.5 miles of the Kansas River and on the Missouri River from 6.5 miles upstream to 9.5 miles downstream. The existing project consists principally of levees, floodwalls, bridge and approach alterations, and channel modification and alteration. The project provides protection to a 32-square-mile area of heavily urbanized floodplain at the confluence of the two rivers.

3. KCD's study will evaluate the no action alternative as well as various structural and non-structural alternatives to determine:

a. Flood damage reduction costs and benefits;

b. regional social and economic impacts; and,

c. environmental impacts and mitigation measures.

Reasonable alternatives KCD will examine include the feasibility of various structural and non-structural measures to reduce flood damage within areas protected by the existing Kansas Citys, Missouri and Kansas, Local Flood Protection Project. Structural alternatives will involve minor increases in height of the existing levee to protect, in most instances, existing urban development.

4. Scoping Process.

a. A public workshop will be held at Kansas City in Spring 2001. The exact date, time, and location of the workshop will be announced when the details are finalized. Additional workshops will be held as the study progresses to keep the public informed. Coordination meetings will be held as needed with affected/concerned local, State, and Federal governmental entities.

These workshops and meetings, as well as any meetings which were previously held regarding this project, will serve as the collective scoping process for preparation of the DEIS. No formal “scoping” meeting will be held.

Draft documents forthcoming from the study will be distributed to Federal, State, and local agencies, as well as interested members of the general public, for review and comment.

b. Significant issues to be analyzed in depth include evaluations of:

(1) level of flood protection provided by the existing flood protection project;

(2) costs and benefits associated with alternatives that increase the flood protection level of the existing flood protection project,

(3) impacts to fish and wildlife resources,

(4) recreation,

(5) cultural resources,

(6) navigation and

(7) water supply.

c. Environmental consultation and review will be conducted in accordance with the requirements of the National Environmental Policy Act of 1969, as per regulations of the Council of Environmental Quality (Code of Federal Regulations parts 40 CFR 1500-1508), and other applicable laws, regulations, and guidelines.

5. The anticipated date of availability of the DEIS for public review is August 2002.

John A. Hall,
Alternate Army Federal Register Liaison Officer.

[FR Doc. 01-769 Filed 1-9-01; 8:45 am]

BILLING CODE 3710-KN-M